DEPARTMENT OF DEFENSE

Department of the Air Force

Announcement of IS-GPS-200, IS-GPS-705, IS-GPS-800; Interface Control Working Group (ICWG) Meeting

AGENCY: Department of the Air Force, DoD.

ACTION: Meeting notice.

SUMMARY: This notice informs the public that the Global Positioning Systems Wing will be hosting an Interface Control Working Group (ICWG) meeting for document/s IS-GPS-200 (NAVSTAR GPS Space Segment/Navigation User Interfaces), IS-GPS-705 (NAVSTAR GPS Space Segment/User Segment L5 Interfaces), and IS-GPS-800 (NAVSTAR GPS Space Segment/User Segment L1C Interfaces). The meeting will address PIRN/IRN changes and contractor redlines to the documents.

The ICWG is open to the general public. For those who would like to attend and participate in this ICWG meeting, you are requested to register to attend the meeting no later than 9 September 09. Please send the registration to vimal.gopal.ctr@losangeles.af.mil and provide your name, organization, telephone number, address, and country of citizenship. More information, including Comments Resolution Matrixes (CRMs) and track changed documents, will be posted at: http://www.losangeles.af.mil/library/factsheets/factsheet.asp?id=9364

Please send all CRM comments to Vimal Gopal by 9 September 09.

DATES: Date/Time:

29 September 2009: IS-GPS-200. 8 a.m.-4 p.m.

30 September 2009: IS-GPS-800. 8 a.m.-4 p.m.

1 October 2009: IS-GPS-705. 8 a.m.-4 p.m.

Location: Doubletree Hotel Los Angeles International Airport, 1985 East Grand Ave, El Segundo, CA 90245, (310) 322-0999.

FOR FURTHER INFORMATION CONTACT: Vimal Gopal vimal.gopal.ctr@losangeles.af.mil 1-310-416-8476 or Captain Neal Roach neal.roach@losangeles.af.mil 1-310-653-3771.

Bao-Anh Trinh,
DAF, Air Force Federal Register Liaison Officer.

[FR Doc. E9-17808 Filed 7-24-09; 8:45 am]

BILLING CODE 5001-05-P